SUSQUEHANNA RIVER BASIN COMMISSION

Actions Taken at December 17, 2021 Meeting

AGENCY: Susquehanna River Basin Commission.

ACTION: Notice.

SUMMARY: As part of its regular business meeting held on December 17, 2021, Harrisburg, Pennsylvania, the Commission approved the applications of certain water resources projects, and took additional actions, as set forth in the Supplementary Information below.

DATES: December 17, 2021.

ADDRESSES: Susquehanna River Basin Commission, 4423 N Front Street, Harrisburg, PA 17110-1788.

FOR FURTHER INFORMATION CONTACT: Jason E. Oyler, General Counsel and Secretary, telephone: (717) 238-0423, ext. 1312, fax: (717) 238-2436; email: joyler@srbc.net. Regular mail inquiries may be sent to the above address. See also Commission website at www.srbc.net.

SUPPLEMENTARY INFORMATION: In addition to the actions taken on projects identified in the summary above and the listings below, the following items were also acted upon at the business meeting: (1) Adoption of a policy, Fee Incentives for the Withdrawal and Consumptive Use of AMD Impacted Waters & Treated Wastewater; (2) adoption of the 2022 Regulatory Program Fee Schedule, including waiving inflationary increases to fees; (3) approval of two grant amendments and one grant agreement; (4) approval to enter into a Letter of Understanding regarding program coordination between SRBC and Pennsylvania Department of Environmental Protection.

Project Applications Approved

1. Project Sponsor and Facility: Chesapeake Appalachia, L.L.C. (Susquehanna River), Terry Township, Bradford County, Pa. Application for renewal and modification of surface water withdrawal of up to 3.000 mgd (peak day) (Docket No. 20170904).

2. Project Sponsor and Facility: Clearfield Municipal Authority, Pike Township, Clearfield County, Pa. Modification to extend the approval term of the groundwater withdrawal approval (Docket No. 19910704) to allow for project improvements.

3. Project Sponsor: Glenn O. Hawbaker, Inc. Project Facility: Naginey Facility, Armagh Township, Mifflin County, Pa. Applications for groundwater withdrawal of up to 0.300 mgd (30-day average) from the Quarry Pit Pond and consumptive use of up to 0.310 mgd (peak day).

4. Project Sponsor: Hydro Recovery-Antrim LP. Project Facility: Antrim Treatment Plant (Antrim No. 1 Mine Discharge and Backswitch Mine Discharge), Duncan Township, Tioga County, Pa. Applications for renewal of surface water withdrawal of up to 1.872 mgd (peak day) and for consumptive use of up to 1.872 mgd (30-day average) (Docket No. 20090902).

5. Project Sponsor and Facility: Mifflin County Municipal Authority (formerly The Municipal Authority of the Borough of Lewistown), Armagh Township, Mifflin County, Pa. Applications for groundwater withdrawals (30-day averages) of up to 0.770 mgd from McCoy Well 1, 1.152 mgd from McCoy Well 2, and 0.770 mgd from the Milroy Well.

6. Project Sponsor: Nature's Way Purewater Systems, Inc. Project Facility: USHydrations—Dupont Bottling Plant, Dupont Borough, Luzerne County, Pa. Modification to increase consumptive use (peak day) by an additional 0.100 mgd, for a total consumptive use of up to 0.449 mgd (Docket No. 20110618).

7. Project Sponsor and Facility: Shippensburg Borough Authority, Southampton Township, Cumberland County, Pa. Application for renewal of groundwater withdrawal of up to 2.000 mgd (30-day average) from Well 3 (Docket No. 20070305).

8. Project Sponsor and Facility: Walker Township Water Association, Inc., Walker Township, Centre County, Pa. Applications for renewal of groundwater withdrawals (30-day averages) of up to 0.432 mgd from Zion Well 2 and 0.320 mgd from Hecla Well 1 (Docket Nos. 19910302 and 19950906).

Commission-Initiated Project Approval Modifications

1. Project Sponsor and Facility: Elkview Country Club, Greenfield and Fell Townships, Lackawanna County, Pa. Conforming the grandfathering amount with the forthcoming determination for a surface water withdrawal up to 0.144 mgd (30-day average) from Crystal Lake (Docket No. 20021002).

Projects Tabled

1. Project Sponsor and Facility: Artesian Water Company, Inc., New Garden Township, Chester County, Pa. Application for renewal of the transfer of water of up to 3.000 mgd (30-day average) from the Chester Water Authority (Docket No. 19961105).

2. Project Sponsor and Facility: Chester Water Authority, New Garden Township, Chester County, Pa. Applications for renewal of consumptive use and for an out-of-basin diversion of up to 3.000 mgd (30-day average) (Docket No. 19961104).

3. Project Sponsor and Facility: Deep Woods Lake LLC, Dennison Township, Luzerne County, Pa. Applications for groundwater withdrawal of up to 0.200 mgd (30-day average) from Well SW-5 and consumptive use of up to 0.467 mgd (peak day).

4. Project Sponsor and Facility: Municipal Authority of the Township of East Hempfield dba Hempfield Water Authority, East Hempfield Township, Lancaster County, Pa. Applications for renewal of groundwater withdrawals (30 day averages) of up to 0.353 mgd from Well 6, 0.145 mgd from Well 7, 1.447 mgd from Well 8, and 1.800 mgd from Well 11, and Commission-initiated modification to Docket No. 20120906, which approves withdrawals from Wells 1, 2, 3, 4, and 5 and Spring S-1 (Docket Nos. 19870306, 19890503, 19930101, and 20120906).

5. Project Sponsor: Farmers Pride, Inc. Project Facility: Bell & Evans Plant 3, Bethel Township, Lebanon County, Pa. Applications for groundwater withdrawals (30-day averages) of up to 0.108 mgd from Well PW-1, 0.139 mgd from Well PW-2, and 0.179 mgd from Well PW-4.

Authority: Pub. L. 91-575, 84 Stat. 1509 et seq., 18 CFR parts 806, 807, and 808.

Dated: December 22, 2021.
Jason E. Oyler,
General Counsel and Secretary to the Commission.

[FR Doc. 2021-28227 Filed 12-28-21; 8:45 am]

BILLING CODE 7040-01-P